DEPARTMENT OF TRANSPORTATION

Surface Transportation Board

[STB Finance Docket No. 34227]

R.J. Corman Railroad Company/Cleveland Line—Lease and Operation Exemption—Line of R.J. Corman Equipment Company, LLC

R.J. Corman Railroad Company/Cleveland Line (RJCL), a Class III rail carrier, has filed a verified notice of exemption under 49 CFR 1150.41 to lease and operate approximately 2.16 miles of track in Wayne County, OH, known as the Wooster Industrial Track, extending between approximately milepost 16.81 and milepost 18.97. This transaction is related to a simultaneously filed verified notice of exemption in STB Finance Docket No. 34226, R.J. Corman Equipment Company, LLC—Acquisition Exemption—Line of CSX Transportation, Inc., wherein R.J. Corman Equipment Company, LLC will acquire the Wooster Industrial Track from CSX Transportation, Inc. (CSXT).

As part of this transaction, RJCL will acquire by assignment from CSXT incidental overhead trackage rights over rail lines of the Norfolk Southern Railway Company between East Gravel, OH (approximately milepost 1.74), and Massillon, OH (approximately milepost 0.0), and between Massillon (approximately milepost 110.7) and Wooster, OH (approximately milepost 138.0), a distance of approximately 29.04 miles in Wayne and Stark Counties, OH. RJCL states that the trackage rights will enable it to connect with the segment of rail line that it owns between Massillon and Warwick, OH.

RJCL certifies that its projected annual revenues will not exceed those that would qualify it as a Class III rail carrier and that its annual revenues are not projected to exceed $5 million.

The parties reported that they intended to consummate the transaction on or soon after July 18, 2002, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings referring to STB Finance Docket No. 34227, must be filed with the Surface Transportation Board, 1925 K Street, NW., Washington, DC 20423-0001. In addition, a copy of each pleading must be served on Kevin M. Sheys, 1800 Massachusetts Avenue, NW., Suite 200, Washington, DC 20036-1221.

Board decisions and notices are available on our Web site at www.stb.dot.gov.

Decided: July 25, 2002.
By the Board, David M. Konschnik, Director, Office of Proceedings.
Vernon A. Williams,
Secretary.

[FR Doc. 02-19434 Filed 8-5-02; 8:45 am]

BILLING CODE 4915-00-P